DEPARTMENT OF LABOR

Office of the Secretary

Bureau of International Labor Affairs; Office of Trade and Labor Affairs; National Advisory Committee for Labor Provisions of U.S. Free Trade Agreements; Notice of Open Meeting

AGENCY: Bureau of International Labor Affairs, U.S. Department of Labor.

ACTION: Notice of Open Meeting, February 5, 2014.

SUMMARY: Pursuant to the Federal Advisory Committee Act (FACA), as amended, 5 U.S.C. App. 2, the Office of Trade and Labor Affairs (OTLA) gives notice of a meeting of the National Advisory Committee for Labor Provisions of U.S. Free Trade Agreements (“Committee” or “NAC”), which was established by the Secretary of Labor.

The purpose of the meeting is to discuss the implementation of the labor provisions of free trade agreements and to identify the Committee's priority countries and issues for 2014.

DATES: The Committee will meet on Wednesday, February 5, 2014, from 10:00 a.m. to 4:00 p.m.

ADDRESSES: The Committee will meet at the U.S. Department of Labor, 200 Constitution Avenue NW., Deputy Undersecretary's Conference Room, Washington, DC 20210. Mail comments, views, or statements in response to this notice to Paula Church Albertson, Office of Trade and Labor Affairs, ILAB, U.S. Department of Labor, 200 Constitution Avenue NW., Room S-5004, Washington, DC 20210; fax (202) 693-4784 (not a toll free number).

FOR FURTHER INFORMATION CONTACT: Paula Church Albertson, Designated Federal Official, Office of Trade and Labor Affairs, Bureau of International Labor Affairs, U.S. Department of Labor, 200 Constitution Avenue NW., Room S-5004, Washington, DC 20210; phone (202) 693-4789 (not a toll free number).

Individuals with disabilities wishing to attend the meeting should contact Ms. Albertson no later than January 29, 2014, to obtain appropriate accommodations.

SUPPLEMENTARY INFORMATION: NAC meetings are open to the public on a first-come, first-served basis, as seating is limited. Attendees must present valid identification and will be subject to security screening to access the Department of Labor for the meeting.

Agenda: Agenda items will include an update and discussion on the implementation of the labor provisions of free trade agreements and a discussion of the Committee's views of priority countries and issues for 2014.

Public Participation: Written data, views, or comments for consideration by the NAC on the agenda listed above should be submitted to Paula Church Albertson at the address listed above. Submissions received by January 29, 2014, will be provided to Committee members and will be included in the record of the meeting. The Committee may take comments or questions from members of the public which were not submitted in writing by January 29 if time permits.

Signed at Washington, DC, the 9th day of January 2014.
Carol Pier,
Acting Deputy Undersecretary, International Affairs.

[FR Doc. 2014-00761 Filed 1-14-14; 8:45 am]

BILLING CODE 4510-28-P